DEPARTMENT OF TRANSPORTATION

Federal Aviation Administration

Notice of Intent to Rule on Request to Release Airport Property at the Snohomish County Airport/Paine Field, Everett, Washington

AGENCY: Federal Aviation Administration (FAA), DOT.

ACTION: Notice of Request to Release Airport Property.

SUMMARY: The FAA proposes to rule and invites public comment on the release of land at Snohomish County Airport/Paine Field under the provisions of Section 125 of the Wendell H. Ford Aviation Investment Reform Act for the 21st Century (AIR 21).

DATES: Comments must be received on or before July 25, 2005.

ADDRESSES: Comments on this application may be mailed or delivered to the FAA at the following address: Mr. J. Wade Bryant, Manger; Federal Aviation Administration, Northwest Mountain Region, Airports Division, Seattle Airports District Office; 1601 Lind Avenue, SW., Suite 250; Renton, Washington 98055-4056.

In addition, one copy of any comments submitted to the FAA must be mailed or delivered to Mr. Dave Waggoner, Airport Director: Snohomish County Airport (Paine Field), 3220-100th Street, SW., Everett, Washington 98204-1390.

FOR FURTHER INFORMATION CONTACT: Mr. Jeff Winter, Project Manager, Federal Aviation Administration; Northwest Mountain Region; Airports Division; Seattle Airports District Office; 1601 Lind Avenue, SW., Suite 250; Renton, Washington 98055-4056. The request to release property may be reviewed in person at this same location, by appointment.

SUPPLEMENTARY INFORMATION: The FAA invites public comment on the request to release property at the Snohomish County Airport/Paine Field under the provisions of the AIR 21.

One June 6, 2005, the FAA determined that the request to release property at Snohomish County Airport/Paine Field submitted by the county met the procedural requirements of the Federal Aviation Regulations, Part 155. The FAA may approve the request, in whole or in part, no later than July 31, 2005.

The following is a brief overview of the request:

The Snohomish County Airport/Paine Field requests the release of 0.99 acres of non-aeronautical airport property to the Snohomish County Public Works Department. The purpose of this release is to transfer ownership to the Public Works Department for expansion of the existing Beverly Park Road, the major arterial on the southeasterly side of the airport running from Airport Road to State Route 525. Snohomish County, a political subdivision of the State of Washington, on behalf of the Snohomish County Airport at Paine Field requests the release from the terms, conditions, reservations, and restrictions imposed upon the property deeded to the Airport by the United State or America, and the release of the subject property from any assurances of the County as sponsor as contained in the Surplus Property Act of 1944 and any FAAP, ADAP, or AIP grant agreement. The release of the property will benefit the users of the airport as it will reduce traffic congestion in the immediate vicinity of the airport. In addition, revenue generated from the sale will be applied to offset the costs incurred by the airport for the General Aviation Corporate Terminal Apron Project.

Any person may, upon request, inspect the request in person at the Federal Aviation Administration; Northwest Mountain Region; Airports Division; Seattle Airports District Office; 1601 Lind Avenue, SW., Suite 250; Renton, Washington 98055-4056.

In addition, any person may, upon request, inspect the application, notice and other documents germane to the application in person at the Snohomish County Airport, 3220-100th Street, SW., Everett, Washington 98204-1390.

Issued in Renton, Washington on June 15, 2005.
Carol A. Key,
Acting Manger, Seattle Airports District Office.

[FR Doc. 05-12372 Filed 6-21-05; 8:45 am]

BILLING CODE 4910-13-M